ENVIRONMENTAL PROTECTION AGENCY

40 CFR Part 60, 61, and 63

[EPA-R08-OAR-2012-0764; FRL-9828-5]

Delegation of Authority to the Southern Ute Indian Tribe To Implement and Enforce National Emissions Standards for Hazardous Air Pollutants and New Source Performance Standards

AGENCY: Environmental Protection Agency (EPA).

ACTION: Proposed rule.

SUMMARY: EPA is taking final action to approve the Southern Ute Indian Tribe's (SUIT) July 3, 2012 request for delegation of authority to implement and enforce National Emissions Standards for Hazardous Air Pollutants (NESHAP) and New Source Performance Standards (NSPS). This request establishes and requires SUIT to administer a NSPS and NESHAPs program per EPA regulations. The delegation is facilitated by SUIT's treatment “in the same manner as a state” (TAS) document, per CAA requirements.

DATES: Written comments must be received on or before August 7, 2013.

ADDRESSES: Submit your comments, identified by Docket ID No. EPA-R08-OAR-2012-0764, by one of the following methods:

• http://www.regulations.gov. Follow the on-line instructions for submitting comments.

• Email: olson.kyle@epa.gov.

• Fax: (303) 312-6064 (please alert the individual listed in the FOR FURTHER INFORMATION CONTACT if you are faxing comments).

• Mail: Carl Daly, Director, Air Program, Environmental Protection Agency (EPA), Region 8, Mailcode 8P-AR, 1595 Wynkoop Street, Denver, Colorado 80202-1129.

• Hand Delivery: Carl Daly, Director, Air Program, Environmental Protection Agency (EPA), Region 8, Mailcode 8P-AR, 1595 Wynkoop Street, Denver, Colorado 80202-1129. Such deliveries are only accepted Monday through Friday, 8:00 a.m. to 4:30 p.m., excluding Federal holidays. Special arrangements should be made for deliveries of boxed information.

Please see the direct final rule which is located in the Rules Section of this Federal Register for detailed instruction on how to submit comments.

FOR FURTHER INFORMATION CONTACT: Kyle Olson, Air Program, Mailcode 8P-AR, U.S. Environmental Protection Agency, Region 8, 1595 Wynkoop Street, Denver, Colorado 80202-1129, (303) 312-6002 or olson.kyle@epa.gov.

SUPPLEMENTARY INFORMATION: EPA is taking final action approving Southern Ute Indian Tribe's (SUIT) July 3, 2012 request for delegation of authority to implement and enforce National Emissions Standards for Hazardous Air Pollutants (NESHAP) and New Source Performance Standards (NSPS). This request establishes and requires SUIT to administer a NSPS and NESHAPs program per EPA regulations. SUIT met the requirements of Clean Air Act (CAA) sections 111(c) and 112(l) and 40 CFR Subpart E for full approval to administer CAA 111 and CAA 112 programs entirely due to its prior approval of its CAA Title V Part 70 Permitting Program. The delegation is facilitated by SUIT's treatment “in the same manner as a state” (TAS) document, per CAA section 301(d)(2). This action is being taken under section 111 and 112 of the CAA.

In the “Rules and Regulations” section of this Federal Register, EPA is approving the delegation as a direct final rule without prior proposal because the Agency views this as a noncontroversial delegation and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment. See the information provided in the direct final action of the same title which is located in the Rules and Regulations Section of this Federal Register.

Authority: 42 U.S.C. 7401 et seq.

Dated: May 30, 2013.
Shaun L. McGrath,
Regional Administrator, Region 8.

[FR Doc. 2013-16328 Filed 7-5-13; 8:45 am]

BILLING CODE 6560-50-P